DEPARTMENT OF HOMELAND SECURITY

Federal Emergency Management Agency

44 CFR Part 64

[Docket ID FEMA-2016-0002; Internal Agency Docket No. FEMA-8429]

Suspension of Community Eligibility

Correction

In rule document appearing on pages 17615-17617 in the issue of Wednesday, March 30, 2016, make the following correction:

§ 64.6 [Corrected]

The table appearing on pages 17616-17617 should read as follows:

State and location | Community No. | Effective date authorization/cancellation of sale of flood insurance in community | Current effective map date | Date certain Federal assistance no longer available in SFHAs
Region III
Virginia:
Albemarle County, Unincorporated Areas | 510006 | May 9, 1973, Emerg; December 16, 1980, Reg; May 16, 2016, Susp | May 16, 2016 | May 16, 2016.
Hampton, City of, Independent City. | 515527 | March 27, 1970, Emerg; January 15, 1971, Reg; May 16, 2016, Susp | ......do | Do.
King and Queen County, Unincorporated Areas | 510082 | June 20, 1974, Emerg; September 5, 1990, Reg; May 16, 2016, Susp | ......do | Do.
Scottsville, Town of, Albemarle and Fluvanna Counties | 510007 | April 12, 1973, Emerg; September 5, 1979, Reg; May 16, 2016, Susp | ......do | Do.
Region V
Wisconsin:
Cambria, Village of, Columbia County | 550057 | June 11, 1975, Emerg; September 18, 1985, Reg; May 16, 2016, Susp | ......do | Do.
Columbia County, Unincorporated Areas | 550581 | July 31, 1975, Emerg; April 15, 1980, Reg; May 16, 2016, Susp | ......do | Do.
Columbus, City of, Columbia and Dodge Counties | 550058 | October 7, 1974, Emerg; December 1, 1981, Reg; May 16, 2016, Susp | ......do | Do.
Doylestown, Village of, Columbia County | 550059 | April 30, 1976, Emerg; September 18, 1985, Reg; May 16, 2016, Susp | ......do | Do.
Fall River, Village of, Columbia County | 550060 | April 17, 1975, Emerg; September 4, 1985, Reg; May 16, 2016, Susp | ......do | Do.
Lodi, City of, Columbia County | 550061 | June 13, 1974, Emerg; November 15, 1984, Reg; May 16, 2016, Susp | ......do | Do.
Pardeeville, Village of, Columbia County | 550062 | August 19, 1976, Emerg; August 15, 1983, Reg; May 16, 2016, Susp | ......do | Do.
Portage, City of, Columbia County | 550063 | June 11, 1974, Emerg; August 15, 1983, Reg; May 16, 2016, Susp | ......do | Do.
Poynette, Village of, Columbia County | 550064 | July 29, 1975, Emerg; September 18, 1985, Reg; May 16, 2016, Susp | ......do | Do.
Wisconsin Dells, City of, Adams, Columbia, Juneau and Sauk Counties | 550065 | July 17, 1975, Emerg; December 18, 1984, Reg; May 16, 2016, Susp | ......do | Do.
Wyocena, Village of, Columbia County | 550066 | May 22, 1975, Emerg; January 18, 1984, Reg; May 16, 2016, Susp | ......do | Do.
Region VIII
Colorado:
Crook, Town of, Logan County | 080111 | May 6, 1977, Emerg; February 5, 1986, Reg; May 16, 2016, Susp | ......do | Do.
Iliff, Town of, Logan County | 080207 | March 20, 1984, Emerg; August 4, 1987, Reg; May 16, 2016, Susp | ......do | Do.
Logan County, Unincorporated Areas | 080110 | January 3, 1977, Emerg; September 29, 1989, Reg; May 16, 2016, Susp | ......do | Do.
Sterling, City of, Logan County | 080294 | August 4, 1977, Emerg; September 29, 1989, Reg; May 16, 2016, Susp | ......do | Do.
*-do- = Ditto.
Code for reading third column: Emerg.—Emergency; Reg.—Regular; Susp—Suspension.

[FR Doc. C1-2016-07093 Filed 4-22-16; 8:45 am]

BILLING CODE 1505-01-P